DEPARTMENT OF ENERGY

Federal Energy Regulatory Commission

[Docket No. RM21-9-000]

Technical Conference on Financial Assurance Measures for Hydroelectric Projects; Notice of Technical Conference

Take notice that the Federal Energy Regulatory Commission (Commission) will convene a Commission staff-led technical conference to discuss whether, and if so, how the Commission should require additional financial assurance mechanisms in the licenses and other authorizations it issues for hydroelectric projects, to ensure that licensees have the capability to carry out license requirements and, particularly, to maintain their projects in safe condition. The technical conference will be held on Tuesday, April 26, 2022, from approximately 12:00 p.m. to 5:00 p.m. Eastern time. The conference will be held virtually.

The technical conference will be open for the public to attend virtually, and there is no fee for attendance. Supplemental notices will be issued prior to the conference with further details regarding the agenda and how to participate as a panelist. Information on this conference will also be posted on the Calendar of Events on the Commission's website, www.ferc.gov, prior to the event.

Commission conferences are accessible under section 508 of the Rehabilitation Act of 1973. For accessibility accommodations, please send an email to accessibility@ferc.gov, call toll-free (866) 208-3372 (voice) or (202) 208-8659 (TTY), or send a fax to (202) 208-2106 with the required accommodations.

For more information about this technical conference, please contact HydroFinancialAssurance@ferc.gov. For information related to logistics, please contact Sarah McKinley at sarah.mckinley@ferc.gov or (202) 502-8368.

Dated: January 25, 2022.
Kimberly D. Bose,
Secretary.

[FR Doc. 2022-01892 Filed 1-28-22; 8:45 am]

BILLING CODE 6717-01-P